DEPARTMENT OF COMMERCE

International Trade Administration

[A-570-071]

Sodium Gluconate, Gluconic Acid, and Derivative Products From the People's Republic of China: Postponement of Preliminary Determination in the Less-Than-Fair-Value Investigation

AGENCY: Enforcement and Compliance, International Trade Administration, Department of Commerce.

DATES: Applicable May 1, 2018.

FOR FURTHER INFORMATION CONTACT: Magd Zalok at (202) 482-4162; Stephen Bailey at (202) 482-0193, AD/CVD Operations, Office IV, Enforcement and Compliance, International Trade Administration, U.S. Department of Commerce, 1401 Constitution Avenue NW, Washington, DC 20230.

SUPPLEMENTARY INFORMATION:

Background

On December 20, 2017, the Department of Commerce (Commerce) initiated a less-than-fair-value (LTFV) investigation of imports of sodium gluconate, gluconic acid, and derivative products from the People's Republic of China.¹ Currently, the preliminary determination is due no later than May 14, 2018.

¹ See Sodium Gluconate, Gluconic Acid, and Derivative Products from France and the People's Republic of China: Initiation of Less-Than-Fair-Value Investigations, 83 FR 516 (January 4, 2018) (Initiation Notice).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner ² makes a timely request for a postponement; or (B) Commerce concludes that the parties concerned are cooperating, and determines that the investigation is extraordinarily complicated such that additional time is necessary to make a preliminary determination. Under 19 CFR 351.205(e), the petitioner must submit a request for postponement 25 days or more before the scheduled date of the preliminary determination and must state the reasons for the request. Commerce will grant the request unless it finds compelling reasons to deny the request.

² The petitioner is PMP Fermentation Products, Inc.

On April 4, 2018, the petitioner submitted a timely request that Commerce postpone the preliminary determination in the LTFV investigation.³ The petitioner stated that it requests the postponement in order to provide Commerce with sufficient time to develop the record in this proceeding through additional questionnaires and gather information from the interested parties on the surrogate values used to value the mandatory respondents' factors of production.⁴

³ See Letter from the petitioner titled “Antidumping Duty Investigation of Sodium Gluconate, Gluconic Acid, and Derivative Products from the People's Republic of China: Petitioner's Request for Postponement of the Preliminary Determination,” dated April 4, 2018.

⁴ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than July 2, 2018.⁵ In accordance with section 735(a)(1) of the Act and 19 CFR 351.210(b)(1), the deadline for the final determination of this investigation will continue to be 75 days after the date of the preliminary determination, unless postponed at a later date.

⁵ See Memorandum, “Deadlines Affected by the Shutdown of the Federal Government,” dated January 23, 2018. All deadlines in this segment of the proceeding have been extended by 3 days. If the new deadline falls on a non-business day, in accordance with Commerce's practice, the deadline will become the next business day. See Notice of Clarification: Application of “Next Business Day” Rule for Administrative Determination Deadlines Pursuant to the Tariff Act of 1930, as Amended, 70 FR 24533 (May 10, 2005).

This notice is issued and published pursuant to section 733(c)(2) of the Act and 19 CFR 351.205(f)(1).

Dated: April 23, 2018.
Gary Taverman,
Deputy Assistant Secretary for Antidumping and Countervailing Duty Operations, performing the non-exclusive functions and duties of the Assistant Secretary for Enforcement and Compliance.

[FR Doc. 2018-08899 Filed 4-30-18; 8:45 am]

BILLING CODE 3510-DS-P